DEPARTMENT OF COMMERCE

International Trade Administration

[A-122-838]

Certain Softwood Lumber Products from Canada: Extension of the Time Limit for the Final Results of Antidumping Duty Administrative Review

AGENCY: AGENCY: Import Administration, International Trade Administration, Department of Commerce.

EFFECTIVE DATE: August 31, 2005.

FOR FURTHER INFORMATION CONTACT: Constance Handley or Shane Subler, at (202) 482-0631 or (202) 482-0189, respectively; AD/CVD Operations, Office 1, Import Administration, International Trade Administration, U.S. Department of Commerce, 14th Street & Constitution Avenue, NW, Washington, DC 20230.

SUPPLEMENTARY INFORMATION:

Background

On June 30, 2004, the Department of Commerce (the Department) published a notice of initiation of administrative review of the antidumping duty order on certain softwood lumber products from Canada, covering the period May 1, 2003, through April 30, 2004. See Notice of Initiation of Antidumping Duty Administrative Review, 69 FR 39409 (June 30, 2004). The review covers the sales of over four hundred producers/exporters of subject merchandise to the United States. Eight of these producers/exporters are being individually examined. On June 7, 2005, the Department published the preliminary results of the antidumping duty administrative review. See Notice of Preliminary Results of Antidumping Duty Administrative Review and Partial Rescission: Certain Softwood Lumber Products from Canada, 70 FR 33063 (June 7, 2005).

Extension of Time Limit for Final Results of Review

Section 751(a)(3)(A) of the Tariff Act of 1930, as amended (the Act), requires the Department to complete the final results of an administrative review within 120 days after the date on which the preliminary results are published. However, if it is not practicable to complete the review within this time period, section 751(a)(3)(A) of the Act allows the Department to extend the time limit for the final results to 180 days from the date of publication of the preliminary results.

We determine that it is not practicable to complete the final results of this review within the original time limit. The Department must address a number of significant and complex issues prior to the issuance of the final results. For example, to address thoroughly comments by interested parties in their case briefs, the Department must analyze the overall cost of production calculation methodology employed for the preliminary results of the review. Therefore, the Department is extending the time limit for completion of the final results of this administrative review until no later than December 4, 2005, which is 180 days from the date of publication of the preliminary results. However, December 4 falls on Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is December 5, 2005.

This notice is issued and published in accordance with section 751(a)(3)(A) of the Act.

Dated: August 25, 2005.
Barbara E. Tillman,
Acting Deputy Assistant Secretary for Import Administration.

[FR Doc. E5-4767 Filed 8-30-05; 8:45 am]

BILLING CODE 3510-DS-S